DEPARTMENT OF THE INTERIOR

National Park Service

Notice of Inventory Completion for Native American Human Remains and Associated Funerary Objects in the Possession of the University of Nebraska-Lincoln, Lincoln, NE

AGENCY: National Park Service.

ACTION: Notice.

Notice is hereby given in accordance with provisions of the Native American Graves Protection and Repatriation Act (NAGPRA), 43 CFR 10.9, of the completion of an inventory of human remains and associated funerary objects in the possession of the University of Nebraska-Lincoln, Lincoln, NE.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary objects was made by University of Nebraska-Lincoln professional staff in consultation with representatives of the Cheyenne River Sioux Tribe of the Cheyenne River Reservation, South Dakota; the Iowa Tribe of Oklahoma; the Kickapoo Tribe of Indians of the Kickapoo Reservation in Kansas; the Oglala Sioux Tribe of the Pine Ridge Reservation, South Dakota; the Omaha Tribe of Nebraska; the Pawnee Nation of Oklahoma; the Ponca Tribe of Nebraska; the Ponca Tribe of Indians of Oklahoma; the Rosebud Sioux Tribe of the Rosebud Indian Reservation, South Dakota; the Santee Sioux Tribe of the Santee Reservation of Nebraska; the Winnebago Tribe of Nebraska; the Yankton Sioux Tribe of South Dakota; and the North Dakota Intertribal Reinterment Committee representing the Standing Rock Sioux Tribe of North and South Dakota; the Spirit Lake Tribe, North Dakota; the Three Affiliated Tribes of the Fort Berthold Reservation, North Dakota; and the Turtle Mountain Band of Chippewa Indians of North Dakota.

In 1955, human remains representing one individual were recovered from the Sheep Mountain site (25BN1), Banner County, NE during a University of Nebraska field school directed by E.M. Davis. No known individual was identified. No associated funerary objects are present.

Based on archeological evidence, this individual has been identified as Native American from the Archaic period.

In 1977, human remains representing one individual from site 25BO8, Boone County, NE was acquired under unknown circumstances from person(s) unknown. No known individual was identified. The one associated funerary object is a soil sample with red ochre.

Based on dental morphology and wear, the condition of the human remains, and the presence of red ochre, this individual has been identified as Native American from the Archaic period.

In 1973, human remains representing nine individuals were excavated from an ossuary (probably 25BO12) located north of Cedar Rapids, Boone County, NE by Steve Holen and John O'Shea. In 1976, these human remains were transferred to the University of Nebraska State Museum from the University of Nebraska Department of Anthropology. No known individuals were identified. No associated funerary objects are present.

The condition of these human remains resembles those from known Archaic, Woodland, or Central Plains Tradition sites, however, these human remains are too fragmentary to assign temporal or cultural affiliation.

In 1937, human remains representing one individual were recovered from a sand pit at the Hemmingford fossil quarries in Box Butte County, NE by a Works Progress Administration worker. No known individual was identified. No associated funerary objects are present.

Based on the recovery location and copper staining of the human remains, this individual has been determined to be Native American from the historic period.

During the 1970's, human remains representing one individual were recovered from site 25BF179, Buffalo County, NE by members of the University of Nebraska Department of Anthropology. No known individual was identified. The one associated funerary object present is an antler fragment.

In the 1960's, this individual was originally disturbed by county residents and re-interred in a metal can. The original burial was said to have been in a sitting position. An additional associated funerary object, a bannerstone believed to be mid-Archaic, was retained by πBus’ Curd of Amherst, NE.

Based on the reported manner of interment, associated funerary objects, and highly mineralized condition of the human remains, this individual has been identified as Native American from the Archaic period.

In 1958, human remains representing seven individuals were excavated from site 25BF229, 2.5-3 miles southeast of Gibbon, Buffalo County, NE by T. Witty and P. Holder. No known individuals were identified. No associated funerary objects are present.

Based on the condition of the human remains, these individuals have been identified as Native American, dating to the Woodland period.

In 1913, human remains representing one individual were lent to the University of Nebraska State Museum by A.A. McReynolds of Nehawka, NE. These remains are presumed to have been recovered from the vicinity of Nehawka, Cass County, NE. These human remains now are considered part of the permanent collection. No known individual was identified. No associated funerary objects are present.

Based on dental morphology and the condition of the human remains, this individual has been identified as Native American dating to the Woodland or Central Plains Tradition period.

In 1965, human remains representing one individual were catalogued into the collections of the University of Nebraska State Museum. The associated designation is 25CC0 “A15965,” indicating derivation from Cass County, NE. No known individual was identified. No associated funerary objects are present.

No documentation exists for these human remains, but they are presumed to have been recovered from Cass County, NE. Based on dental morphology and the condition of the human remains, this individual has been identified as Native American dating to the Archaic to Woodland period.

At an unknown date, human remains representing two individuals were removed from the Sterns site (25CC28) in Cass County, NE by person(s) unknown. Remains of one of the individuals are highly mineralized and probably date from an earlier period than the other individual. No known individuals were identified. No associated funerary objects are present.

Between 1914-1968, the Sterns site (also known as the Walker-Gilmore site) was investigated numerous times. Based on material culture and the preservation of the human remains, these individuals have been identified as Native American from a multiple site with Late Woodland (Sterns Creek) and Nebraska Phase components.

At an unknown date, human remains representing three individuals were recovered from the Swallow Hill site (25CC47), Cass County, NE by R. Cuming. No known individuals were identified. The one associated funerary object is a split-rib awl.

Based on dental wear, the associated funerary object, and red ochre staining on the human remains, these individuals have been identified as Native American, dating to the Woodland period or earlier.

In 1951 and 1959, human remains representing eight individuals were recovered from the Ashland Burial Mound (Ossuary) site, Cass County, NE by R. Wood or Dr. Hathaway of the Anthropology Lab at the University of Nebraska-Lincoln. No known individuals were identified. A minimum of 124 associated funerary objects includes a minimum of 15 shell bead fragments, 1 fragmented shell pendant, a minimum of 8 pieces of unmodified shell, and a minimum of 100 wood fragments.

Based on the condition of the human remains, the manner of interment (bundle burials), and the east-west burial orientation, these individuals have been identified as Native American from the pre-contact period, probably Woodland.

In 1941, human remains representing five individuals were recovered from the Ferber site (25CD10), Cedar County, NE during Works Progress Administration excavations conducted by A.C. Spaulding under the direction of J. Champe. No known individuals were identified. No associated funerary objects are present.

Based on the condition of the human remains, these individuals have been identified as Native American dating to the Great Oasis/Late Woodland period.

In 1941, human remains representing two individuals were recovered from the Fort site, 25CD11, in Cedar County, NE during excavations conducted under the supervision of A. C. Spaulding and John Champe of the University of Nebraska. No known individuals were identified. A minimum of 152 associated funerary objects includes a minimum of 149 glass beads, 1 shell bead, and 1 cup and 1 mirror broken into a minimum of 12 fragments.

Based on the associated funerary objects and red staining on the human remains, these individuals have been identified as Native American from the historic period.

At an unknown date, human remains representing one individual were recovered from site 25CD12, Cedar County, NE by members of the Department of Anthropology at the University of Nebraska-Lincoln. No known individual was identified. No associated funerary objects are present.

Based on the condition of the human remains and material culture at site 25CD12, this individual has been identified as Native American dating to the Great Oasis/Late Woodland period.

In 1958, human remains representing seven individuals were excavated from the Burney site (25CD21), Cedar County, NE during a University of Nebraska field school under the direction of Franklin Fenenga. No known individuals were identified. The 27 associated funerary objects are beads made from bone and shell, and pieces of worked and unworked shell.

Based on ceramics, the Burney site has been identified as a multi-component site with both Woodland and Central Plains Tradition occupations. Based on archeological evidence, including ceramics and the condition of the human remains, these individuals have been identified as Native American dating to the Loeske Creek or Sterns Creek foci of the Woodland period and the Central Plains Tradition period.

In 1958, human remains representing one individual were recovered from the Elliot site (25CD22), Cedar County, NE by the University of Nebraska-Lincoln Field School. No known individual was identified. No associated funerary objects are present.

Based on the condition of the human remains, this individual has been identified as Native American, most likely dating to the Woodland period.

At an unknown date, human remains representing one individual from Chase County, NE were sent to the University of Nebraska State Museum by Sheriff Clifton Morrison of Imperial, NE. No known individual was identified. No associated funerary objects are present.

Based on dental wear and morphology, this individual has been identified as Native American.

In 1973, human remains representing one individual were donated to the University of Nebraska by James Lutter of Valentine, NE. These human remains are believed to have come from Cherry County, NE. No known individual was identified. No associated funerary objects are present.

Based on osteological features and the condition of the human remains, this individual has been identified as Native American.

In 1949, human remains representing one individual were excavated by Morris Skinner and his father from a “blowout” on a ranch belonging to Henry Voss in southern Cherry County, NE. No known individual was identified. The three associated funerary objects include one leather knife sheath with associated metal and leather fragments, a piece of glass, and a red paint stone.

Based on the associated funerary objects, this individual has been determined to be Native American from the historic period.

In 1962, human remains representing one individual were collected from a wet gravel pit near West Point, Cuming County, NE by the Central Gravel Company and donated to the University of Nebraska. No known individual was identified. No associated funerary objects are present.

At the time of acquisition, this individual was identified as Native American by museum staff. Based on osteololgical evidence and the wet gravel pit location of these human remains, this individual has been identified as Native American from an unknown period.

At an unknown date, human remains representing one individual were found in a box with material from the gravel pits in Cuming County, NE. No known individual was identified. No associated funerary objects are present.

Based on the condition of the human remains, this individual has been identified as Native American. The remains are highly mineralized, indicating either great antiquity or possibly the effects of burial in gravel. The remains are from an unknown period.

At an unknown date, human remains representing one individual were collected from the Wisner sand pit, Cuming County, NE by unknown person(s) and donated to the University of Nebraska. No known individual was identified. No associated funerary objects are present.

Based on osteological evidence and the sand pit settling location where these human remains were recovered, this individual has been identified as Native American from an unknown period.

During the 1940's, human remains representing two individuals were recovered from the Schmidt gravel pit, west of West Point, Cuming County, NE by unknown person(s) and donated to the University of Nebraska. No known individual was identified. No associated funerary objects are present.

Based on osteological evidence and the condition of the human remains, these individuals have been determined to be Native American from an unknown period.

At an unknown date, human remains representing four individuals were collected from a wet gravel pit (25CM2) near West Point, Cuming County, NE by unknown person(s) and donated to the University of Nebraska. No known individuals were identified. No associated funerary objects are present.

Based on osteological evidence, these individuals have been identified as Native American from an unknown period. One individual has been suggested to date to the Paleoindian or Early Archaic periods.

At an unknown date, human remains representing two individuals were dug out of a hilltop near Cornstock, Custer County, NE by unknown parties and donated to the University of Nebraska. No known individuals were identified. No associated funerary objects are present.

Based on osteological evidence, these individuals have been identified as Native American from an unknown period.

At an unknown date, human remains representing one individual were found behind a schoolhouse in Dakota County, NE by person(s) unknown. No known individual was identified. No associated funerary objects are present.

Based on geographic location and the condition of the human remains, this individual has been identified as Native American dating to the Archaic or Woodland period.

In 1926, human remains representing four individuals from the vicinity of Homer, Dakota County, NE were donated to the University of Nebraska State Museum by H. Green. No known individuals were identified. No associated funerary objects are present.

Based on the condition of the human remains and skeletal evidence, these individuals have been identified as Native Americans from the pre-contact period.

In 1939, human remains representing 35 individuals were recovered from the Ryan site (25DK2A), Dakota County, NE during Works Progress Administration excavations. No known individuals were identified. No associated funerary objects are present.

Based on material culture and the condition of the human remains, site 25DK2A has been identified as a Woodland burial mound. Based on material culture, skeletal morphology and the condition of the human remains, these individuals have been identified as Native American from the Woodland period.

In 1939, human remains representing one individual were excavated from a mound at the Ryan site (25DK2B), Dakota County, NE during a Works Project Administration project. No known individual was identified. No associated funerary objects are present.

The Ryan site consists of a series of three mounds with multi-component features. Based on the good condition of these human remains, this individual has been identified as Native American from the late pre-contact or historic periods.

In 1941, human remains representing one individual were collected by S. Bartos, Jr. following their disturbance by the Nebraska State Highway Department in Dakota County, NE from site 25DK16. No known individual was identified. No associated funerary objects are present.

Based on skeletal morphology, this individual has been identified as Native American from an unknown period.

At an unknown date, human remains representing one individual from site 25DK17 were acquired by the University of Nebraska State Museum under unknown circumstances. No known individual was identified. No associated funerary objects are present.

This individual has been identified as Native American from an unknown period.

In 1938 and 1959, human remains representing 35 individuals were recovered from the Brewer site (25DX3), Dixon County, NE. The 1938 excavations were by S. Bartos, Jr. and S. Wimberley during Works Progress Administration Project #4842 under the direction of Earl H. Bell; the 1959 excavations were conducted by Messrs. Champe and Kenagy. No known individuals were identified. No associated funerary objects are present.

Based on material culture and the condition of the human remains, these individuals have been identified as Native American dating to the Woodland period.

In 1938, human remains representing 105 individuals were excavated by S. Bartos, Jr. from the farm of A. E. Enders (25DX4), Dixon County, NE during Works Progress Administration Project #4148 conducted under the direction of Earl H. Bell. No known individuals were identified. The three associated funerary objects are bone beads.

Based on the associated funerary objects and reported manner of interments, these individuals have been identified as Native American dating to the Woodland period.

In 1950, human remains representing one individual were collected from a gravel pit (25DD101) in Dodge County, NE by members of the Division of Vertebrate Paleontology, University of Nebraska State Museum. No known individual was identified. No associated funerary objects are present.

Based on the circumstances of discovery of the human remains during paleontological excavations and the geologic location from which the human remains were recovered, this individual has been identified as Native American from an unknown period.

At an unknown date, human remains representing one individual were recovered from Scribner Air Base in Dodge County, NE. The remains were donated to the University of Nebraska State Museum by Robert E. Lucas. No known individual was identified. The one associated funerary object is a copper ring.

Based on the associated funerary object, this individual has been determined to be Native American from the historic period.

In 1895, human remains representing one individual from Omaha, Douglas County, NE were donated to the University of Nebraska State Museum by the City of Omaha, NE. No known individual was identified. No associated funerary objects are present.

These human remains were boxed together in the museum collection with remains collected from the “Loess Man” site 25DO26 excavated by R.F. Gilder in 1906. This individual is likely to be from an earlier collection by Mr. Gilder. This individual has been identified as Native American from an unknown period.

In 1906, human remains representing 15 individuals were excavated from Long's Hill, north of Florence, Douglas County, NE by R.F. Gilder, who described the site as a burial mound. No known individuals were identified. No associated funerary objects are present.

Based on archeological evidence and the condition of the human remains, these individuals have been identified as Native American from the Woodland period.

In 1908, human remains representing one individual were donated to the University of Nebraska State Museum by person(s) unknown following the discovery of these human remains under a porch at 1318 Colonial Avenue, Omaha, Douglas County, NE. No known individual was identified. No associated funerary objects are present.

Given the circumstances of discovery in 1908 and the condition of the remains, this individual has been identified as Native American from the historic period.

In 1917, human remains representing four individuals were removed from site 25DO8, known as the “Indian burial ground” at Cabannes Trading Post in Douglas County, NE during excavations by R.F. Gilder. No known individuals were identified. The one associated funerary object is a tin cup.

Based on the associated funerary object, copper staining, and the preservation of the human remains, these individuals have been identified as Native American from the historic period.

In 1905, human remains representing eight individuals were excavated at the Fort Lisa site (25DO9001), Douglas County, NE by R.F. Gilder. No known individuals were identified. No associated funerary objects are present.

Based on the skeletal morphology and the condition of the human remains, these individuals have been identified as Native American possibly from the Woodland or Central Plains Tradition periods.

In 1930, human remains representing one individual were recovered southeast of Ohiowa, Fillmore County, NE by Harry Theobald and Miles Hurley who donated these human remains to the University of Nebraska State Museum. The remains were transferred to the University of Nebraska State Museum by J.C. Steele and Dr. Hartford of Ohiowa. No known individual was identified. No associated funerary objects are present.

Based on the condition of the human remains, the individual has been identified as Native American possibly from the Woodland period.

At an unknown date, human remains representing one individual were recovered from the Dill site (25FR10), near Oak Grove, Franklin County, NE by person(s) unknown. No known individual was identified. No associated funerary objects are present.

Based on the condition of the human remains and reported presence of Woodland ceramics at the Dill site, this individual has been identified as Native American dating to the Woodland period.

At an unknown date, human remains representing one individual were recovered from Frontier County, NE from “25FT Burial 1” by person(s) unknown under unknown circumstances. No known individual was identified. No associated funerary objects are present.

Based on the condition of the human remains, this individual has been identified as Native American from the historic period.

In 1942, human remains representing one individual were recovered from the Dunn Ossuary (25FT2) in Frontier County, NE by A.T. Hill in an excavation for the Nebraska State Historical Society. No known individual was identified. The seven associated funerary objects are three shell beads and four shell fragments.

Based on material culture, the Nebraska State Historical Society attributes this site to the Woodland period. This individual has been identified as Native American from the Woodland period.

In 1955, human remains representing 16 individuals were recovered from the Flodine site (25FN11), Fumas County, NE during excavations conducted under the supervision of E. Mott Davis and F. Fenenga of the University of Nebraska Department of Anthropology. No known individuals were identified. A minimum of 1,942 associated funerary objects includes a minimum of 169 disc-shaped beads, 4 worked fragments from freshwater clam shells, a minimum of 1,768 beads made from cut sections of mammal bones and rodent incisors, and a triangular shell pendant broken into 3 fragments.

Based on associated funerary objects and the condition of the human remains, these individuals have been identified as Native American dating to the Woodland period.

Prior to 1960, human remains representing five individuals were turned over to the University of Nebraska from the County Attorney's Office in Grand Island, Hall County, NE. No known individuals were identified. No associated funerary objects are present.

The individuals have been identified as Native American from an unknown period.

At an unknown date, human remains representing one individual were recovered under unknown circumstances by person(s) unknown from Harlan County, NE. No known individual was identified. No associated funerary objects are present.

Based on the condition of the human remains, the individual has been identified as Native American from the pre-contact period.

In 1930, human remains representing two individuals were recovered from Marshall Ossuary (25HN1) west of the Graham Site (25HN5) in Harlan County, NE by W. Wedel in an excavation under the direction of W. D. Strong for the Nebraska State Archaeological Survey. No known individuals were identified. The 41 associated funerary objects include 39 freshwater shell beads, shell fragments, 1 piece of burnt antler, and 1 stone tool.

Based on material culture and the condition of the human remains, these individuals have been identified as Native American from the Woodland period.

In 1950, human remains representing three individuals were recovered from the Sappa Creek Site (25HN17) in Harlan County, NE by J. and D. Gunnerson and J. Champe. No known individuals were identified. No associated funerary objects are present.

Based on the derivation of the human remains from a known Native American archeological site and the condition of the human remains, these individuals have been identified as Native American from an unknown period.

At an unknown date, human remains representing one individual were recovered from the north shore of Harlan County Reservoir (25HN46) near Republican City, Harlan County, NE by Sandy Frazier. No known individual was identified. No associated funerary objects are present.

Based on the condition of the human remains, this individual has been determined to be Native American from an unknown period. In 1978, archeological investigations described site 25HN46 as a pit burial, including evidence of bark lining, charcoal, and yellow ochre fragments, that is not present in University of Nebraska-Lincoln collections. No known individual was identified. No associated funerary objects are present.

Based on the condition of the human remains and on the manner of interment (pit burial), this individual has been determined to be Native American from an unknown period.

In 1936, human remains representing one individual were pumped out of a gravel pit at McCook, Hitchcock County, NE and donated to the University of Nebraska State Museum by W.B. Hall, Stratton, NE. No known individual was identified. No associated funerary objects are present.

Based on osteological evidence and on circumstances of the recovery, this individual has been identified as Native American from an unknown period.

In 1950, human remains representing five individuals were collected from the Massacre Canyon site (25HK13), Hitchcock County, NE by M. Kivett. No known individuals were identified. No associated funerary objects are present.

Based on Nebraska State Historical Society records and the condition of the human remains, these individuals have been identified as Native American dating to the Middle Woodland period.

In 1938, human remains representing 22 individuals were excavated by P. Newell and S. Bartos from the Eagle Creek site (25HT1), Holt County, NE during Works Project Administration Project #4841. No known individuals were identified. The six associated funerary objects are chipped and ground stone tools.

Based on material culture at the Eagle Creek site and manner of interments, these individuals have been identified as Native American dating to the Woodland period.

At an unknown date, human remains representing one individual were recovered from the Mallory Dam site (25HT9), Holt County, NE by F. Hood. No known individual was identified. No associated funerary objects are present.

Based on a ceramic sherd at the site and the condition of the human remains, this individual has been identified as Native American dating to the Woodland period

In 1947, human remains representing two individuals were recovered near Mullen, Hooker County, NE and donated to the University of Nebraska State Museum by Ioa Campbell. No known individuals were identified. No associated funerary objects are present.

Based on the condition of the human remains, these individuals have been identified as Native American. One individual may be from the historic period; the other individual is from an unknown period.

In 1962, human remains representing one individual believed to be from either Omaha Beach at Lake McConaughy or the “Foundation” site (location unknown) were excavated by “McEvoy,” a student in the University of Nebraska Department of Anthropology. No known individual was identified. No associated funerary objects are present.

Based on the circumstances of recovery, this individual has been identified as Native American from an unknown period.

In 1931, human remains representing one individual from a site southeast of Verdigre, Knox County, NE were donated to the University of Nebraska State Museum by Vac Randa following the disturbance of this burial during plowing by Frank Haylick. No known individual was identified. No associated funerary objects are present.

Based on skeletal morphology and dental wear patterns, this individual has been identified as a mixed-blood Native American/Caucasian from the historic period. According to the documentation for this individual, the remains were found enclosed in a box in a sitting position. It is not known whether the burial dates from the post-reservation period.

In 1937, human remains representing 31 individuals were excavated from the Davis site (35KX6), Knox County, NE during Works Project Administration Work Project #3140 conducted under the direction of P. Newell of the Nebraska Archaeological Survey. No known individuals were identified. The minimum of 54 associated funerary objects are shell beads, bead fragments, and worked shell fragments.

Based on reported material culture, manner of interments, and the condition of the human remains, these individuals have been identified as Native American dating to the Woodland period.

In 1937, human remains representing two individuals were excavated from the Larson Mounds site (25KX8), Knox County, NE during Works Project Administration Project #165-81-8095, Work Project #3140, conducted under the direction of P. Newell of the Nebraska Archaeological Survey. No known individuals were identified. No associated funerary objects are present.

Based on the condition of the human remains and heavy dental wear patterns, these individuals have been identified as Native American dating to the Woodland period.

In 1937, human remains representing 15 individuals were excavated from the Niobara School site (25KX12), Knox County, NE by E. Bell for the Nebraska State Archaeological Survey. No known individuals were identified. The 58 associated funerary objects include 44 bone beads, 13 shell beads, and 1 bone artifact.

Based on associated funerary objects and the condition of the human remains, these individuals have been determined to be Native American from the Woodland or Central Plains Tradition periods.

In 1910, human remains representing one individual were donated to the University of Nebraska State Museum by “Guthrie.” No known individual was identified. No associated funerary objects are present.

Donor information states these human remains were recovered “2-1/2 hours north of Havelock.” Havelock since has been incorporated by the City of Lincoln, NE. The recovery location was probably in northern Lancaster County or southern Saunders County, NE. Based on the condition of the remains, this individual has been identified as Native American from an unknown period.

In 1907, human remains representing two individuals were donated to the University of Nebraska State Museum by J.R.C. Miller of Lincoln, NE. No known individuals were identified. No associated funerary objects are present.

Donor information states these human remains were recovered “from near the B&M [railroad] cut through hill, and at the point of the divide, in Denton precinct in SE 1/4, Sec.T.9, R.5E” in Lancaster County, NE. Based on the condition of the human remains, these individuals have been identified as Native American from the pre-contact period.

In 1935, human remains representing two individuals were sent to the University of Nebraska State Museum by H.E. Weakly, agronomist at the University of Nebraska. Documentation for these remains suggests that they were recovered from a gravel pit near North Platte, Lincoln County, NE. No known individuals were identified. No associated funerary objects are present.

Based on good preservation, copper staining, and osteological evidence of horseback riding, these individuals have been determined to be Native American from the historic period.

In 1935, human remains representing six individuals were donated to the University of Nebraska State Museum by H.E. Weakly, agronomist, University of Nebraska. The remains are believed to have been found in a gravel pit, probably near North Platte, Lincoln County, NE. No known individuals were identified. No associated funerary objects are present.

Based on osteological evidence and circumstances of recovery, these individuals have been determined to be Native American from an unknown period.

At an unknown date, human remains representing one individual were recovered from the Brady site (25LN0), Lincoln County, NE by Robert Parsons of Brady, NE. No known individual was identified. No associated funerary objects are present.

Based on the geological strata of the burial and the condition of the human remains, this individual has been identified as Native American from the Paleo-Indian period.

At an unknown date, human remains representing one individual were recovered from the Norfolk Gravel Pit in Madison County, NE and donated to the University of Nebraska State Museum by Frank Medelman. No known individual was identified. No associated funerary objects are present.

Based on skeletal morphology, this individual has been identified as Native American from an unknown period.

In 1983, human remains representing one individual were recovered from the Medelman gravel pit (25MD101), Norfolk County, NE and donated to the University of Nebraska State Museum by S. Holen. No known individual was identified. No associated funerary objects are present.

Based on skeletal morphology, this individual has been identified as Native American from an unknown period.

At an unknown date, human remains representing two individuals were recovered during road grading from an undesignated site 100 feet from 25MO62, a surface site south of Alliance, Morrill County, NE by T.C. Middleswart. In 1994, these human remains were donated to the University of Nebraska-Lincoln by Mrs. Gwen Rusch, daughter of Mr. Middleswart. No known individuals were identified. The 20 associated funerary objects are 15 dentalia shells, 1 bone gaming piece, and 4 fragments of copper bracelets.

Based on dental morphology, associated funerary objects, and good preservation, these individuals have been identified as Native American from the historic period.

At an unknown date, human remains representing one individual were donated to the University of Nebraska State Museum by person(s) unknown. The tag with the remains has the designation “MO10” which may indicate derivation from Morrill County, NE. No known individuals were identified. No associated funerary objects are present.

Based on osteological evidence and skeletal morphology, this individual has been identified as Native American from an unknown period.

In 1926, human remains representing one individual were donated to the University of Nebraska State Museum by A.T. Lobdell of McCook, NE. No known individual was identified. No associated funerary objects are present.

These human remains are believed to have come from Red Willow County, NE. Based on osteological evidence, this individual has been identified as Native American from an unknown period.

At an unknown date, human remains representing one individual were recovered from a wet gravel pit (25Rw102) in Red Willow County, NE during excavations conducted by the University of Nebraska State Museum Vertebrate Paleontology Division. No known individual was identified. No associated funerary objects are present.

Based on location and the condition of the human remains, this individual has been identified as Native American from an unknown period.

At an unknown date, human remains representing one individual were recovered from a wet gravel pit (25Rw108) in Red Willow County, NE during excavations conducted by the University of Nebraska State Museum Vertebrate Paleontology Division. No known individual was identified. No associated funerary objects are present.

Based on location and the condition of the human remains, this individual has been identified as Native American.

At an unknown date, human remains representing one individual were recovered from a wet gravel pit (25Rw109) in Red Willow County, NE during excavations conducted by the University of Nebraska State Museum Vertebrate Paleontology Division. No known individual was identified. No associated funerary objects are present.

Based on location and the condition of the human remains, this individual has been identified as Native American from an unknown period.

At an unknown date, human remains representing two individuals were found 1.5 miles north of Rulo, NE and secured by the University of Nebraska State Museum from C. Edwards through Robert F. Gilder. Remains of six other individuals and a 15th century gold coin are known to have been found 7.5 feet below the surface of this site at a later date, but none of these are in the University collection. No known individuals were identified. No associated funerary objects are present.

Based on material culture reported from the same site, these individuals have been identified as Native American from an unknown period.

In 1960, human remains representing two individuals were recovered from the Leary site (25RH1), Richardson County, NE during excavations conducted by the University of Nebraska-Lincoln. No known individuals were identified. No associated funerary objects are present.

Based on archeological evidence, the Leary site has been identified as a primary Oneota occupation with a later Central Plains Tradition component. Based on the condition of the human remains, these individuals have been identified as Native American.

At an unknown date, human remains representing one individual were recovered from site 25RH20, Richardson County, NE by person(s) unknown under unknown circumstances. No known individual was identified. No associated funerary objects are present.

Based on material culture and the condition of the human remains, this individual has been identified as Native American from an unknown period.

At an unknown date, human remains representing one individual were removed during excavation for a courthouse from the Wahoo Creek burial ground on lots 1 and 2 during the original survey of the City of Wahoo, Saunders County, NE. In 1917, these human remains were donated to the University of Nebraska State Museum by Judge Newman through C. Petrus Peterson. No known individual was identified. No associated funerary objects are present.

While the Wahoo Creek burial ground has been identified as an historic Omaha cemetery, it cannot be determined whether the individual dates from the historic period. The individual has been identified as Native American from an unknown period.

During the late 1950's, human remains representing one individual from a cemetery west of Morse Bluffs, Saunders County, NE were donated to the University of Nebraska Museum by Adolph Havelka and Victor Pabien, who recovered these human remains while preparing a grave at the site. No known individual was identified. No associated funerary objects are present.

Based on skeletal and dental morphology and the preservation of the human remains, this individual has been identified as a mixed-blood Native American/Caucasian from the historic period.

In 1936, human remains representing four individuals were excavated from site 25SD10, Saunders County, NE by W. Wedel. No known individuals were identified. No associated funerary objects are present.

Based on the condition of these human remains, these individuals have been identified as Native American, possibly of great antiquity.

During 1931-1932, human remains representing three individuals were recovered from the Signal Butte site (25SF1), southeast of Scottsbluff in Scotts Bluff County, NE, possibly by C. B. Schultz, who collected at the site following excavations conducted by the Smithsonian Institution. No known individuals were identified. No associated funerary objects have been identified in University of Nebraska State Museum collections.

Based on archeological evidence, the Signal Butte site has been identified as a multi-component occupation from the Archaic, Woodland, and Central Plains Tradition periods. Based on the condition of these human remains, these individuals have been identified as Native American, possibly from the Central Plains Tradition component.

In 1946, human remains representing 46 individuals were recovered from the Gering site (25SF10), Scotts Bluff County, NE during excavations conducted by M.F. Kivett for the Nebraska State Archaeological Survey. No known individuals were identified. A minimum of 134 associated funerary objects includes 102 bone beads, 17 chipped stone tools, 6 pieces of worked bone, 9 boatstones and groundstone artifacts.

Based on the associated funerary objects, manner of interments, and the condition of the human remains, these individuals have been identified as Native American dating to the Woodland period, approximately A.D. 600-800.

In 1936 and 1938, human remains representing two individuals were recovered from Stanton or Indian Creek Village site 25ST1 in Stanton County, NE. The recovery of one individual was by person(s) unknown. The other individual was recovered in 1938 was during an excavation under the direction of H. Angelino for the Works Project Administration. No known individuals were identified. No associated funerary objects are present.

Based on material culture, this is a mixed site that included Central Plains Tradition, Oneota, and Omaha cultural traditions. These individuals have been identified as Native American from an unknown period.

In 1938, human remains representing two individuals were recovered during construction of a basement in Stanton County, NE. No known individuals were identified. No associated funerary objects are present.

Based on the preservation of the human remains that suggests great antiquity, and the absence of any indication of a marked grave, these individuals have been identified as Native American from an unknown period.

In 1907, human remains representing 11 individuals were recovered from a hilltop site on the Hovendick farm, 2 miles south of Blair, Washington County, NE during excavations conducted by R.F. Gilder. No known individuals were identified. No associated funerary objects are present.

Based on the condition of the human remains, these individuals have been identified as Native American. Based on dental evidence, the individuals are possibly from the pre-contact period.

At an unknown date, human remains representing one individual were recovered in western Washington County, NE (25WN31) by Alan Wite. No known individual was identified. No associated funerary objects are present.

Based on the condition of the human remains, this individual is identified as Native American possibly from the pre-contact period.

In 1947, human remains representing one individual were found “on the banks of the Republican River near Guide Rock, Webster County,” NE and were donated to the University of Nebraska State Museum by the Webster County Attorney. No known individual was identified. No associated funerary objects are present.

Based on the condition of the human remains, this individual is identified as Native American possibly from the historic period.

Based on the above-mentioned information, officials of the University of Nebraska have determined that, pursuant to 43 CFR 10.2 (d)(1), the human remains listed above represent the physical remains of 491 individuals of Native American ancestry. Officials of the University of Nebraska also have determined that, pursuant to 43 CFR 10.2 (d)(2), the minimum of 2,896 objects listed above are reasonably believed to have been placed with or near individual human remains at the time of death or later as part of the death rite or ceremony. Lastly, officials of the University of Nebraska have determined that, pursuant to 43 CFR 10.2 (e), there is a relationship of shared group identity on the basis of oral history and aboriginal homelands that can be reasonably traced between these Native American human remains and associated funerary objects from Nebraska and the Cheyenne River Sioux Tribe of the Cheyenne River Reservation, South Dakota; the Iowa Tribe of Oklahoma; the Kickapoo Tribe of Indians of the Kickapoo Reservation in Kansas; the Oglala Sioux Tribe of the Pine Ridge Reservation, South Dakota; the Omaha Tribe of Nebraska; the Pawnee Nation of Oklahoma; the Ponca Tribe of Nebraska; the Ponca Tribe of Indians of Oklahoma; the Rosebud Sioux Tribe of the Rosebud Indian Reservation, South Dakota; the Santee Sioux Tribe of the Santee Reservation of Nebraska; the Winnebago Tribe of Nebraska; the Yankton Sioux Tribe of South Dakota; and the North Dakota Intertribal Reinterment Committee representing the Standing Rock Sioux Tribe of North and South Dakota; the Spirit Lake Tribe, North Dakota; the Three Affiliated Tribes of the Fort Berthold Reservation, North Dakota; and the Turtle Mountain Band of Chippewa Indians of North Dakota. This notice has been sent to officials of the Cheyenne River Sioux Tribe of the Cheyenne River Sioux Tribe of the Cheyenne River Reservation, South Dakota; the Iowa Tribe of Oklahoma; the Kickapoo Tribe of Indians of the Kickapoo Reservation in Kansas; the Oglala Sioux Tribe of the Pine Ridge Reservation, South Dakota; the Omaha Tribe of Nebraska; the Pawnee Nation of Oklahoma; the Ponca Tribe of Nebraska; the Ponca Tribe of Indians of Oklahoma; the Rosebud Sioux Tribe of the Rosebud Indian Reservation, South Dakota; the Santee Sioux Tribe of the Santee Reservation of Nebraska; the Winnebago Tribe of Nebraska; the Yankton Sioux Tribe of South Dakota; the North Dakota Intertribal Reinterment Committee; the Standing Rock Sioux Tribe of North and South Dakota; the Spirit Lake Tribe, North Dakota; the Three Affiliated Tribes of the Fort Berthold Reservation, North Dakota; and the Turtle Mountain Band of Chippewa Indians of North Dakota. Representatives of any other Indian tribe that believes itself to be culturally affiliated with these human remains and associated funerary objects should contact Dr. Priscilla Grew, NAGPRA Coordinator, University of Nebraska-Lincoln, 301 Bessey Hall, Lincoln, NE 68588-0381, telephone (402) 472-7854, before November 1, 2000. Repatriation of the human remains and associated funerary objects to the Cheyenne River Sioux Tribe of the Cheyenne River Reservation, South Dakota; the Iowa Tribe of Oklahoma; the Kickapoo Tribe of Indians of the Kickapoo Reservation in Kansas; the Oglala Sioux Tribe of the Pine Ridge Reservation, South Dakota; the Omaha Tribe of Nebraska; the Pawnee Nation of Oklahoma; the Ponca Tribe of Nebraska; the Ponca Tribe of Indians of Oklahoma; the Rosebud Sioux Tribe of the Rosebud Indian Reservation, South Dakota; the Santee Sioux Tribe of the Santee Reservation of Nebraska; the Winnebago Tribe of Nebraska; the Yankton Sioux Tribe of South Dakota; and the North Dakota Intertribal Reinterment Committee representing the Standing Rock Sioux Tribe of North and South Dakota; the Spirit Lake Tribe, North Dakota; the Three Affiliated Tribes of the Fort Berthold Reservation, North Dakota; and the Turtle Mountain Band of Chippewa Indians of North Dakota may begin after that date if no additional claimants come forward.

Dated: September 19, 2000.
John Robbins,
Assistant Director, Cultural Resources Stewardship and Partnerships.

[FR Doc. 00-25126 Filed 9-29-00; 8:45 am]

BILLING CODE 4310-70-F